SECURITIES AND EXCHANGE COMMISSION

[Release No. 34-67879; File No. SR-CBOE-2012-087]

Self-Regulatory Organizations; Chicago Board Options Exchange, Incorporated; Notice of Filing of a Proposed Rule Change To Amend Rules Regarding Requests for Data Related to Exchange Reviews

September 18, 2012.

Correction

In notice document 2012-23439, appearing on pages 58897-58899 in the issue of Monday, September 24, 2012, make the following correction:

On page 58897, in the third column, the Release Number and File Number should read as set forth above.

[FR Doc. C1-2012-23439 Filed 11-6-12; 8:45 am]

BILLING CODE 1505-01-D